SMALL BUSINESS ADMINISTRATION

[Disaster Declaration #10032]

Kansas Disaster Number KS-00001

AGENCY: U.S. Small Business Administration.

ACTION: Amendment 1.

SUMMARY: This is an amendment of the Presidential declaration of a major disaster for Public Assistance Only for the State of Kansas (FEMA-1579-DR), dated February 8, 2005.

Incident: Severe Winter Storms, Heavy Rains, and Flooding.

Incident Period: January 4, 2005, through January 6, 2005.

DATES: Effective Date: February 22, 2005.

Physical Loan Application Deadline Date: April 11, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the President's major disaster declaration for Private Non-Profit organizations in the State of Kansas, dated February 8, 2005, is hereby amended to include the following areas as adversely affected by the disaster.

Primary Counties: Brown, Jackson, Kiowa, Leavenworth, McPherson, Pottawatomie.

All other information in the original declaration remains unchanged.

(Catalog of Federal Domestic Assistance Number 59008.)
Herbert L. Mitchell,
Associate Administrator for Disaster Assistance.

[FR Doc. 05-5304 Filed 3-16-05; 8:45 am]

BILLING CODE 8025-01-P